DEPARTMENT OF TRANSPORTATION

Federal Aviation Administration

Notice of Intent To Release Airport Property for Non-Aeronautical Use; Manchester Regional Airport, Manchester, NH

Authority: 49 U.S.C. 47107(h).

AGENCY: Federal Aviation Administration (FAA) DOT.

ACTION: Request for comments on proposal to use airport land for non-aeronautical use.

SUMMARY: The Federal Aviation Administration is considering a proposal to release approximately 1.0 acres of airport property for non-aeronautical use at the Manchester Regional Airport, Manchester, NH. The acre released is currently used as a buffer zone to adjacent wetlands and would be exchanged for approximately 4.3 acres of land that would be used for the same purpose. In accordance with section 47107(h) of Title 49 of the United States Code, the FAA invites public comment on this proposal.

DATES: Comments must be received on or before August 15, 2014.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590.

• Hand Delivery: Deliver to Mail address above between 9 a.m. and 5 p.m., Monday through Friday, except Federal holidays.

FOR FURTHER INFORMATION CONTACT: Thomas Vick, Compliance and Land Use Specialist, New England Region Airports Division, 12 New England Executive Park, Burlington, MA 01803. Telephone: 781-238-7618; Fax 781-238-7608.

SUPPLEMENTARY INFORMATION: In accordance with the Wendell H. Ford Aviation Investment and Reform Act for the 21st Century (AIR 21), Public Law 106-181 (Apr. 5, 2000; 114 Stat. 61), this notice must be published in the Federal Register not less than 30 days before the Secretary may waive any condition imposed on a federally obligated airport by grant agreements. The FAA invites public comment on the request to a land release and exchange at the Manchester-Boston Regional Airport for use as wetland mitigation under the provisions of AIR 21.

The Manchester-Boston Regional Airport has requested to release approximately 1.0 acres of airport land from federal obligations and to exchange that acre with approximately 4.3 acres of land currently owned by the Peter J. King Irrevocable Trust of 1988. The 1.0 acres to be released was purchased by the Airport as part of the Trolley Crossing mitigation site for the Airport's previous extension of Runway 35, and is located in the Town of Londonderry, Rockingham County, NH. The parcel is part of a larger property parcel currently depicted on the Airport Layout Plan of record as Number 64. That larger parcel is identified as Town of Londonderry, Rockingham County, Tax Map 14, Lot 49-1. The 1.0 acres in question is located within the larger parcel, and is considered “buffer” to the wetland portion of the Trolley Crossing mitigation site. The approximately 4.3 acres of land that would be exchanged and given to the Airport from the Trust is similar in nature and also serves as buffer to the wetland portion of the Trolley Crossing mitigation site. That 4.3 acre parcel is also located in the Town of Londonderry, NH, within the parcel identified as Tax Map 14, Lot 49.

The Airport has requested this exchange to allow Prologis Management, LLC, to lease and develop approximately 48 acres of the Trust property for a logistics center. The 1.0 acres of airport property is necessary for the development of the center. As part of this proposal, the Federal and State agencies that participated in the environmental study for the Runway 35 extension have reviewed this proposal. All interested agencies have concurred that there would be no adverse environmental impacts as a result of this land exchange and that the proposed release and exchange of 1.0 acres for 4.3 acres of similarly situated land would be beneficial for the Runway 35 extension mitigation site. The Airport also completed a Real Estate Appraisal Report for the parcels. The appraisal was conducted in accordance with the Uniform Standards of Professional Appraisal Practice (USPAP). The appraisal concludes that the Manchester-Boston Regional Airport will receive additional value for the land that it is acquiring in this proposed release and exchange.

Interested persons may inspect the request and supporting documents by contacting the FAA at the address listed under FOR FURTHER INFORMATION CONTACT. All comments will be considered by the FAA to the extent practicable.

Issued in Burlington, Massachusetts, July 9, 2014.
Mary T. Walsh,
Manager, New England Airports Division.

[FR Doc. 2014-16728 Filed 7-15-14; 8:45 am]

BILLING CODE 4910-13-P